DEPARTMENT OF HOUSING AND URBAN DEVELOPMENT

[FR-5415-FA-08]

Announcement of Funding Awards; Indian Community Development Block Grant Program; Fiscal Year 2010

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2010 (FY 2010) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION: This program provides grants to Indian Tribes and Alaska Native Villages to develop viable Indian and Alaska Native communities, including the creation of decent housing, suitable living environments, and economic opportunities primarily for persons with low and moderate incomes as defined in 24 CFR 1003.4.

The FY 2010 awards announced in this Notice were selected for funding in a competition posted on HUD's Web site on August 24, 2010. Applications were scored and selected for funding based on the selection criteria in that notice and Area ONAP geographic jurisdictional competitions.

The amount appropriated in FY 2010 to fund competitive ICDBG applications was $61,040,000. The allocations for the Area ONAP geographic jurisdictions are as follows:

Eastern/Woodlands | $7,073,351
Southern Plains | 13,094,889
Northern Plains | 8,694,184
Southwest | 22,737,279
Northwest | 3,105,735
Alaska | 6,334,562
Total | $61,040,000

In accordance with Section 102 (a)(4)(C) of the Department of Housing and Urban Development Reform Act of 1989 (103 Stat.1987, 42 U.S.C. 3545), the Department is publishing the names, addresses, and amounts of the 88 awards made under the various regional competitions in Appendix A to this document.

Dated: June 14, 2011.
Sandra B. Henriquez,
Assistant Secretary for Public and Indian Housing.

Appendix A

Indian Community Development Block Grant Program Fiscal Year 2010 Award Recipients
Name/address of applicant | Amount funded | Activity funded | Project description
All Mission Indian Housing Authority (La Jolla), Debra Skallerud, Operations Manager, 27740 Jefferson Ave, Ste 260, Temecula, CA 92590 | $605,000 | Public Facility Infrastructure | Construction of infrastructure on 72 acre home development site.
All Mission Indian Housing Authority (Torres-Martinez), Debra Skallerud, Operations Manager, 27740 Jefferson Ave, Ste 260, Temecula, CA 92590 | 605,000 | Housing Construction | Construct 5 homes.
Bear River Band of Rohnerville Rancheria, Honorable Leonard Bowman, Tribal Chairperson, 27 Bear River Drive, Loleta, CA 95551 | 605,000 | Housing Construction | Construct 3 homes.
Big Pine Paiute Tribe of the Owens Valley, Honorable Virgil Moose, Tribal Chairperson, P.O. Box 700, Big Pine, CA 93513 | 605,000 | Housing Rehabilitation | Rehab 15 homes.
Bishop Paiute Tribe, Glenn Hall, CEO, 50 TU SU Lane, Bishop, CA 93514 | 605,000 | Public Facility | Elders Center Rehabilitation.
Cheesh-Na Tribe, Lorraine Radigan, Chief Financial Officer, P.O. Box 241, Gakona, AK 99586 | 600,000 | Public Facility Community Center | Clinic & multi-use facility.
Chemehuevi Indian Tribe, Honorable Charles Wood, Chairman, P.O. Box 1976, Havasu Lake, CA 92363 | 605,000 | Public Facility Infrastructure | Water tank replacement and system changes.
Cherokee Nation of Oklahoma, Honorable Chad Smith, Principal Chief, P.O. Box 948, Tahlequah, OK 74465 | 726,765 | Public Facility Community Center and Microenterprise | Collinsville food distribution and Microenterprise Program.
Cheyenne-Arapaho Tribes of Oklahoma, Honorable Janice Boswell, Governor, P.O. Box 38, Concho, OK 73022 | 799,380 | Public Facility Special Needs | Head Start Childcare Center.
Chickasaw Nation, Honorable Bill Anoatubby, Governor, P.O. Box 1548, Ada, OK 74821 | 800,000 | Public Facility Community Center | Chickasaw Nation Connerville Senior-Community Center.
Choctaw Nation of Oklahoma, Honorable Gregory E. Pyle, Chief, P.O. Drawer 1210, Durant, OK 74702 | 800,000 | Public Facility | Construction of a Fire and Emergency Response Complex in Idabel, Oklahoma.
Citizen Potawatomi Nation, Honorable John A. Barrett, Chairman, 1601 S. Gordon Cooper Drive, Shawnee, OK 74801 | 800,000 | Economic Development | Construction of 2 Grocery Stores.
Cocopah Indian Tribe, Honorable Sherry Cordova, Chairperson, County 15 and Avenue G, Somerton, AZ 85350 | 571,002 | Housing Rehabilitation | Rehab 10 homes.
Coeur d'Alene Tribal Housing Authority, Rosanna Allen, Executive Director, P O Box 267, Plummer, ID 83851 | 500,000 | Housing Rehabilitation | Rehabilitation of 35 low-rent homes.
Confederated Tribes of Grand Ronde, Honorable Cheryle A. Kennedy, Chairwoman, 9615 Grand Ronde Road, Grande Ronde, OR 97347 | 500,000 | Public Facility Special Purpose | Develop a 3,000 sq. ft. transition center for women.
Crow Creek Housing Authority, Joseph Sazue, Jr. Executive Director, P.O. Box 19, Fort Thompson, SD 57339 | 900,000 | Housing Rehabilitation | Rehabilitation of 34 units.
Curyung Tribal Council, Honorable Thomas Tilden, 1st Chief, P.O. Box 216, Dillingham, AK 99576 | 600,000 | Housing Construction | Construct four homes.
Delaware Tribe of Oklahoma, Honorable Paula Pechonick, Chief, 170 NE Barbara Avenue, Bartlesville, OK 74006 | 800,000 | Public Facility Community Center | Social Services Building.
Eastern Band of Cherokee Indians of NC, Honorable Michell Hicks, Principal Chief, P.O. Box 455, Cherokee, NC 28719 | 600,000 | Public Facility Community Center | Snowbird Youth Center.
Eastern Shawnee Tribe of Oklahoma, Honorable Glenna J. Wallace, Chief, P.O. Box 350, Seneca, MO 64865 | 800,000 | Public Facility | Public Safety Building.
Elko Band of Te-Moak Tribe, Honorable Gerald Temoke, Chairman, 1745 Silver Eagle Drive, Elko, NV 89801 | 516,934 | Public Facility Center | Construct an Education Center.
Hannahville Indian Community, Kenneth Meshigaud, Chairperson, N14911 Hannahville B1 Rd., Wilson, MI 49896 | 600,000 | Economic Development | Expansion Convenience Store-Gas Station.
Ho-Chunk Nation, Honorable Wilfrid Cleveland, President, W9814 Airport Rd., Black River Falls, WI 54615 | 600,000 | Public Facility Community Center | Dells Dam Community Center.
Hualapai Indian Tribe, Honorable Wilfred Whatoname, Sr. Chairman, P.O. Box 179, Peach Springs, AZ 86434 | 825,000 | Public Facility | 10 Unit Elder Group Home.
Jamestown S'Klallam Tribe, Honorable William Ron Allen, CEO/Tribal Chairman, 1033 Old Blyn Highway, Sequim, WA 98382 | 442,341 | Public Facilities Infrastructure | Tribal water system expansion.
Jicarilla Apache Housing Authority, Lisa Manwell, Executive Director, P.O. Box 486, Dulce, NM 87528 | 825,000 | Housing Rehabilitation | Rehabilitation of 13 homes.
Kaibab Band of Paiute Indians, Honorable Manual Savala, Chairman, HC 65, Box 2, Fredonia, AZ 86022 | 605,000 | Economic Development | RV Park.
Karuk Tribe, Phil Albers, Jr., Vice Chairman, P.O. Box 1016, Happy Camp, CA 96039 | 595,000 | Public Facility Center | Health and Wellness Center.
Keweenaw Bay Indian Community, Honorable Warren C. Swartz, Jr., President, 16429 Beartown Rd, Baraga, MI 49908 | 600,000 | Public Facility Infrastructure | Brewery-Vuk-Dynamite Hill water line.
Kickapoo Tribe of Oklahoma, Honorable Gilbert Salazar, Chairman, P.O. Box 70, McLoud, OK 74851 | 799,780 | Public Facility Special Needs | Assisted Living Units.
Knik Tribal Council, Richard Porter, Executive Director, P.O. Box 871565, Wasilla, AK 99687 | 247,062 | Housing Rehabilitation | Housing rehabilitation and weatherization.
Lac du Flambeau Band of Lake Superior, Dee Mayo, Tribal Vice-Chairperson, P.O. Box 67, Lac du Flambeau, WI 54538 | 600,000 | Public Facility Community Center | Community Facility Youth Center.
Leech Lake Band of the MN Chippewa Tribe, Honorable Arthur LaRose, Chairman, 6530 U.S. Hwy 2, Cass Lake, MN 56633 | 600,000 | Public Facility Community Center | Sugar Point Community Center.
Little River Band of Ottawa Indians, Honorable Larry Romanelli, Ogema, 375 River Street, Manistee, MI 49660 | 477,275 | Public Facility Community Center | Family Services/Health Center.
Los Coyotes Band of Cahuilla Indians, Honorable Francine Kupsch, Tribal Spokeswoman, P.O. Box 189, Warner Springs, CA 92086 | 600,200 | Housing Construction | Construction of 4 homes.
Lower Brule Sioux Tribe, Honorable Michael Jandreau, Tribal Chairman, 187 Oyate Circle, Lower Brule, SD 57548 | 523,677 | Housing Construction | Construction of 2 homes and 1-2 bedrooms duplex.
Lummi Nation Housing Authority, Honorable Jacqueline Ballew, Chairperson, 2828 Kwina Road, Bellingham, WA 98226 | 500,000 | Public Facilities Infrastructure | Infrastructure development for low-income housing.
Mechoopda Tribe of Chico Rancheria, Ryan Heath Browning, Executive Director, 125 Mission Ranch Boulevard, Chico, CA 95926 | 595,000 | Housing Acquisition | Acquire 2 homes.
Mescalero Housing Authority, Alvin Benally, Executive Director, P.O. Box 227, Mescalero, NM 88340 | 70,443 | Housing Rehabilitation | Rehabilitation of 2 homes.
Muscogee (Creek) Nation, Honorable A.D. Ellis, Principal Chief, P.O. Box 580, Okmulgee, OK 74447 | 800,000 | Public Facility Infrastructure | Infrastructure Project for Student Housing.
Native Village of Cantwell, Honorable Veronica Nicolas, President, P.O. Box 94, Cantwell, AK 99729 | 600,000 | Housing Construction | Construct a Tri-plex.
Native Village of Deering, Honorable Michael Jones, President, P.O. Box 89, Deering, AK 99736 | 600,000 | Housing Rehabilitation | Housing rehabilitation and weatherization.
Native Village of Kobuk, Honorable Edward Gooden Jr., President, P.O. Box 871565, Kobuk, AK 99751 | 600,000 | Housing Rehabilitation | Housing rehabilitation and weatherization.
Native Village of Selawik, Honorable Clyde Ramoth Sr., President, P.O. Box 39, Selawik, AK 99770 | 500,000 | Housing Rehabilitation | Water and sewer services to eight homes.
Native Village of Shungnak, Honorable Glenn Douglas, President, P.O. Box 64, Shungnak, AK 99773 | 600,000 | Housing Construction | Construct five homes.
Native Village of Tazlina, Honorable Johnny Goodlataw, President, P.O. Box 87, Glenallen, AK 99588 | 600,000 | Housing Construction | Construct three single family homes.
Navajo Nation, Honorable Joe Shirley, Jr., President, P.O. Box 7440, Window Rock, AZ 86515 | 3,722,554 | Public Facility Infrastructure | Power lines and water treatment facility.
Nelson Lagoon, Dan Duame, Executive Director, Aleutian Housing Authority, P.O. Box 13-NLG, Cold Bay, AK 99571 | 187,500 | Housing Rehabilitation | Housing rehabilitation for two single family homes.
Northern Arapaho Housing Authority, Patrick Goggles, Executive Director, 501 Ethete Road, Ethete, WY 82520 | 470,507 | Public Facility Infrastructure | Construction of a natural gas pipeline to serve low-income housing residents.
Northern Cheyenne Tribal Housing Authority, Lafe Haugen, Executive Director, P.O. Box 327, Lame Deer, MT 59043 | 900,000 | Housing Rehabilitation | Rehabilitation of 31 homes.
Northern Ponca Housing Authority, Robert Waite, Acting Executive Director, 1501 Michigan Ave., Norfolk, NE 68701 | 1,100,000 | Housing Rehabilitation | Rehabilitation of 150 homes.
Northern Pueblos Housing Authority (Picuris), Terry Hudson, Executive Director, 11 West Gutierrez, Suite 10, Santa Fe, NM 87506 | 432,302 | Housing Rehabilitation | Rehabilitation of 10 homes.
Northern Pueblos Housing Authority (San Ildefonso), Terry Hudson, Executive Director, 11 West Gutierrez, Suite 10, Santa Fe, NM 87506 | 605,000 | Housing Rehabilitation | Rehabilitation of 13 homes.
Northern Pueblos Housing Authority (Tesuque), Terry Hudson, Executive Director, 11 West Gutierrez, Suite 10, Santa Fe, NM 87506 | 605,000 | Housing Rehabilitation | Rehabilitation of 13 homes.
Northwestern Band of the Shoshone Nation Housing Authority, Jon Warner, Executive Director, 707 N. Main Street, Brigham City, UT 84302 | 600,000 | Public Facility Community Center and Housing Construction | Construction of 6 homes, Construction of a 2,000 sq ft education building.
Nottawaseppi Huron Band of the Potawatomi, Honorable Homer Mandoka, Chairperson, 2221 1½ Mile Rd., Fulton, MI 49052 | 598,500 | Public Facility Community Center | Health Center Expansion.
Oglala Sioux (Lakota) Housing Authority, Paul Iron Cloud, Chief Executive Officer, 400 East Main, Pine Ridge, SD 57770 | 1,100,000 | Housing Rehabilitation | Rehabilitation of 120 homes, to include mold remediation.
Ohkay Owingeh Housing Authority, Tomasita Duran, Executive Director, P.O. Box 1059, Ohkay Owingeh, NM 87566 | 605,000 | Housing Rehabilitation | Rehab 10 homes.
Ottawa Tribe of Oklahoma, Honorable John R. Ballard, Chief, P.O. Box 110, Miami, OK 74355 | 800,000 | Housing Rehabilitation | Housing Rehabilitation.
Pascua Yaqui Tribe, Honorable Peter Yucupicio, Chairman, 7474 South Camino de Oeste, Tucson, AZ 85757 | 2,200,000 | Public Facility | Education Complex.
Pawnee Nation of Oklahoma, Honorable George Howell, President, P.O. Box 470, Pawnee, OK 74058 | 800,000 | Public Facility | Law Enforcement Center.
Pokagon Band of Potawatomi Indians, Honorable Matthew Wesaw, Chairperson, P.O. Box 180, Dowagiac, MI 49047 | 600,000 | Public Facility Community Center | Pokagon Cultural Center Project.
Ponca Tribe of Oklahoma, Honorable Douglas G. Rhodd, Sr., Chairman, 20 White Eagle Drive, Ponca City, OK 74601 | 800,000 | Housing Rehabilitation | Housing Rehabilitation.
Port Gamble S'Klallam Tribe, Honorable Jeromy Sullivan, Tribal Chairperson, 31912 Little Boston Road N.E., Kingston, WA 98346 | 500,000 | Public Facility Community Center | Construct a 5,100 sq. ft. preschool building.
Pribilof Island Aleut Community of St. Paul Island, Elaine Baker, Grant Writer, P.O. Box 86, St. Paul, AK 99660 | 600,000 | Housing Rehabilitation | Install ampy meter and water system upgrades.
Pueblo de Cochiti Housing Authority, Mary Jo Trujillo, Secretary Board of Commissioners, P.O. Box 98, Cochiti Pueblo, NM 87072 | 605,000 | Housing Rehabilitation & Construction | Rehabilitation of 15 homes and construction of 2 homes.
Quapaw Tribe of Oklahoma, Honorable John Berrey, Chairman, P.O. Box 765, Quapaw, OK 74363 | 799,999 | Economic Development | Convenience Store.
Quechan Tribally Designated Housing Entity, Robert Letendre, Tenent Relations Officer, 1860 West Sapphire Lane, Winterhaven, CA 92283 | 825,000 | Public Facility Infrastructure | Streets, Roads & Sidewalks.
Reno-Sparks Indian Colony, Honorable Arlan Melendez, Tribal Chairman, 98 Colony Road, Reno, NV 89502 | 548,745 | Housing Rehabilitation | Rehabilitation of 38 homes with water damage.
Rosebud Sioux Tribe, Honorable Rodney Bordeaux, Tribal Chairman, P.O. Box 430, Rosebud, SD 57570 | 1,100,000 | Public Facility Community Center | Construction of 4 multi-purpose, community centers.
Salish and Kootenai Housing Authority, Jason Adams, Executive Director, P.O. Box 38, Pablo, MT 59855 | 1,100,000 | Housing Rehabilitation and Homebuyer Assistance | Rehabilitation of 19 homes, homebuyer assistance, counseling and closing costs and down payment assistance.
San Felipe Pueblo Housing Authority, Issac Perez, Executive Director, P.O. Box 4222, San Felipe, NM 87001 | 825,000 | Housing Rehabilitation | Rehabilitation of 15 homes.
Santa Rosa Band of Cahuilla Indians, Rebecca Rose Tortes, Grant Consultant, P.O. Box 609, Hemet, CA 92546 | 580,500 | Housing Construction | Construct 5 homes.
Sault Ste. Marie Tribe of Chippewa Indians of MI, Honorable Darwin “Joe” McCoy, Chairperson, 523 Ashmun Street, Sault Ste. Marie, MI 49783 | 597,576 | Housing Rehabilitation | Kincheloe Rehabilitation.
Seneca-Cayuga Tribe of Oklahoma, Honorable Leroy Howard, Chief, 23701 S. 655 Road, Grove, OK 74344 | 799,965 | Public Facility Special Needs | AOA Elder Nutrition Center.
Squaxin Island Tribe, Honorable David Lopeman, Tribal Chairman, 10 S. E. Squaxin Lane, Shelton, WA 98584 | 499,968 | Public Facility Infrastructure | Design, engineering, and infrastructure for development of a community center.
St. Regis Band of Mohawk Indians of NY, Honorable Mark Garrow, Chief, 412 State Route 57, Akwesasne, NY 13655 | 600,000. | Public Facility Community Center | Diabetes Center.
Sitka Tribe of Alaska, Lisa Gassman, General Manager, 456 Katlin Street, Sitka, AK 99835 | 600,000 | Public Facility | Baranof Island Housing Authority maintenance facility.
Suquamish Tribe, Honorable Leonard Forsman, Tribal Chairman, P.O. Box 498, Suquamish, WA 98371 | 163,426 | Public Facility Infrastructure | Infrastructure development for low-income housing.
Tamaya Housing Incorporated, Cordelia Guerrero, Executive Director, 51 Jemez Canyon Dam Road Ste. 201-F, Santa Ana Pueblo, NM 87004 | 605,000 | Housing Construction | Construct 4 homes.
Tonkawa Tribe of Oklahoma, Honorable Donald L. Patterson, President, 1 Rush Buffalo Road, Tonkawa, OK 74653 | 800,000 | Public Facility Infrastructure | Infrastructure Water-Sewer.
United Keetoowah Band of Cherokee Indians, Honorable George Wickliffe, Chief, P.O. Box 746, Tahlequah, OK 74465 | 800,000 | Public Facility Community Center | Training Center.
Utah Paiute Housing Authority, Jessie Laggis, Executive Director, 665 North, 100 East, Cedar City, UT 84720 | 900,000 | Housing Rehabilitation | Rehabilitation of 24 units.
Washoe Tribe of Nevada and California, Debby Carlson, Grants Manager, 919 Hwy 395 South, Gardnerville, NV 89410 | 535,000 | Public Facility Center | Wellness Center.
Wells Indian Colony Band of Te-Moak Tribe, Honorable Paula Salazar, Chairwoman, P.O. Box 809, Wells, NV 89835 | 605,000 | Public Facility Center | Multi Purpose Community Center Phase II.
White Earth Band of the MN Chippewa Tribe, Honorable Erma Vizenor, Chairperson, P.O. Box 418, White Earth, MN 56591 | 600,000 | Public Facility Community Center | Health Building.
Wyandotte Nation, Honorable Leaford Bearskin, Chief, 64700 E. Highway 60, Wyandotte, OK 74370 | 369,000 | Housing Rehabilitation | Housing Rehabilitation.
Yerington Paiute Tribe, Lee Shaw, Development Coordinator, 171 Campbell Lane, Yerington, NV 89447 | 605,000 | Public Facility Center | Construct a Community Center.

[FR Doc. 2011-15508 Filed 6-21-11; 8:45 am]

BILLING CODE 4210-67-P